DEPARTMENT OF HOUSING AND URBAN DEVELOPMENT

[Docket No. FR-5376-N-124]

Emergency Comment Request; Indian Housing Block Grants (IHBG) Program Reporting; Notice of Submission of Proposed Information Collection to OMB; Notice of Proposed Information Collection for Public Comment

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal. This is a correction from 14 days to 30 days.

DATES: Comments Due Date: January 26, 2011.

ADDRESSES: Interested persons are invited to submit comments regarding this proposal. Comments must be received within thirty (30) days from the date of this Notice. Comments should refer to the proposal by name or OMB approval number (2577-0218) and should be sent to: Ross A. Rutledge, HUD Desk Officer, Office of Management and Budget, New Executive Office Building, Washington, DC 20503; e-mail: Ross.A.Rutledge@omb.eop.gov; Fax: 202-395-3086.

FOR FURTHER INFORMATION CONTACT: Colette Pollard, Departmental Reports Management Officer, QDAM, Department of Housing and Urban Development, 451 7th Street, SW., Washington, DC 20410; e-mail Colette.Pollard@HUD.gov; telephone (202) 402-3400. This is not a toll-free number. Copies of available documents submitted to OMB may be obtained from Ms. Pollard.

SUPPLEMENTARY INFORMATION: This request for emergency processing is essential in order to implement the statutory changes to NAHASDA for fiscal year 2012. A standard PRA review would delay implementation of the revised IHP/APR until fiscal year 2013. The agency cannot reasonably comply with the normal clearance procedures under this part because the statutory changes accelerate the submission of the IHP. With implementation of the statutory changes, the IHP is due 75 days prior to the beginning of the grantee's fiscal year. For grantees with a fiscal year beginning October 1, 2011, the revised IHP will be due July 16, 2011, rather than July 1, 2012. The emergency clearance processing of the revised PRA is needed in order to provide IHBG recipients with sufficient time to complete the IHP prior to submission and provide training to all IHBG recipients on the revised form. Therefore, the use of the normal clearance procedures is reasonably likely to prevent or disrupt the collection of information and is reasonably likely to cause a statutory deadline to be missed.

This Notice also lists the following information:

Title of Proposal: Indian Housing Block Grants (IHBG) Program Reporting.

Description of Information Collection: Recipients of Indian Housing Block Grant (IHBG) funds provide plans for low-income housing programs in their communities and submit quarterly reports on funds drawn. Recipients may submit information to correct and/or challenge data used in annual housing assistance formula allocations. Additional requirements have been added: Recipients may purchase insurance from a nonprofit insurance entity approved by HUD. These entities must submit annual audit and actuarial reviews to HUD annually.

OMB Control Number: 2577-0218.

Agency Form Numbers: Form 52735 and 52735-AS Combined, HUD-272-I, HUD-4117, HUD-4119.

Members of Affected Public: State, Local, and Tribal.

Estimation of the total numbers of hours needed to prepare the information collection including number of respondents, frequency of responses, and hours of response: An estimation of the total number of hours needed to prepare the information collection is 366, the estimated number of respondents is 144, the frequency response is one time, and the estimated number of hours per response is 366.

Authority: The Paperwork Reduction Act of 1995, 44 U.S.C. chapter 35, as amended.

Dated: December 20, 2010.
Colette Pollard,
Departmental Reports Management Officer, Office of the Chief Information Officer.

[FR Doc. 2010-32461 Filed 12-23-10; 8:45 am]

BILLING CODE 4210-67-P